DEPARTMENT OF AGRICULTURE

Submission for OMB Review; Comment Request

August 20, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Health Screening Questionnaire.

OMB Control Number: 0596-0164.

Summary of Collection: The Protection Act of 1922 (16 U.S.C. 594) authorizes the Forest Service (FS) to fight fires on National Forest System lands. Individuals seeking recertification or employment as a new firefighter with the FS or Department of Interior (DOI) must complete the Health Screening Questionnaire (HSQ). The information collected pertains to an individual's health status and health history.

Need and Use of the Information: FS and DOI will collect information from potential applicants using forms FS-5100-31, HSQ and FS-5100-30, Work Capacity Test. Wildland firefighters perform long hours of arduous labor in adverse conditions. The information collected is used to determine whether an individual being considered for a position can carry out those duties in a manner that will not place the candidate or coworkers unduly at risk due to inadequate physical fitness and health. If the information is not collected, the Government's liability risk is high, special needs of an individual may not be known, or the screening of an applicant's physical suitability would be greatly inhibited.

Description of Respondents: Individuals or households.

Number of Respondents: 5,397.

Frequency of Responses: Reporting: Annually.

Total Burden Hours: 896.

Forest Service

Title: Extending the Forest Service Message to Diverse Urban Publics.

OMB Control Number: 0596-NEW.

Summary of Collection: Enabling legislation, Forest and Rangeland Renewable Resources Research Act of 1978, as amended, (Pub. L. 95-307) directs the Secretary to research the multiple uses and products, including recreation, of forests and rangelands to facilitate their most effective use. In addition, EO 12898 mandates a series of Federal actions to address environmental justice in minority populations and low-income populations. Forest Service will conduct a study to specifically address the intent of this mandate by using a telephone survey to gather information from adults in metropolitan areas adjacent to urban National Forests.

Need and Use of the Information: Random quota samples of adults, pre-identified as being from four major ethnic/racial groups of African-American, Asian, Hispanic and White decent will be contacted to participate in a telephone survey. FS will collect information from respondents about their forest usage, and the sources of information they rely upon to learn about various opportunities available to them in the forests. The information will be used to help the Forest Service to effectively outreach to minority populations and gain a better understanding of the varying motivations that differ by ethnicity for taking vacations or day trips and constraints experienced by diverse publics.

Description of Respondents: Individuals or households.

Number of Respondents: 2,500.

Frequency of Responses: Reporting: Other (one time).

Total Burden Hours: 344.

Charlene Parker,
Departmental Information Collection Clearance Officer.

[FR Doc. E9-20440 Filed 8-24-09; 8:45 am]

BILLING CODE 3410-11-P